DEPARTMENT OF TRANSPORTATION

Federal Aviation Administration

14 CFR Part 60

[Docket No. FAA-2002-12461; Notice No. 07-14]

RIN 2120-AJ12

Flight Simulation Training Device Initial and Continuing Qualification and Use

Correction

In proposed rule document 07-4884 beginning on page 59600 in the issue of Monday, October 22, 2007, make the following correction:

1. On page 59670, in Table A3A, entry 2.b. is corrected as follows:

Table A3A.—Functions and Subjective Tests
<<<QPS requirements>>>: Number | <<<QPS requirements>>>: Operation tasks | <<<QPS requirements>>>: Simulator level: A | <<<QPS requirements>>>: Simulator level: B | <<<QPS requirements>>>: Simulator level: C | <<<QPS requirements>>>: Simulator level: D
| Tasks in this table are subject to evaluation if appropriate for the airplane simulated as indicated in the SOQ Configuration List or the level of simulator qualification involved. Items not installed or not functional on the simulator and, therefore, not appearing on the SOQ Configuration List, are not required to be listed as exceptions on the SOQ.
* * * * * * *
2.b. | Pushback/Powerback |  | X | X | X
* * * * * * *

2. On page 59684, the heading to Table A3F is corrected as follows:

Table A3F.—Functions and Subjective Tests
<<<QPS requirements>>>: Number | <<<QPS requirements>>>: Special effects | <<<QPS requirements>>>: Simulator level: A | <<<QPS requirements>>>: Simulator level: B | <<<QPS requirements>>>: Simulator level: C | <<<QPS requirements>>>: Simulator level: D
* * * * * * *

3. Beginning on page 59718, in Table B2A, entries 2.a.3.a. and 2.c.9.a. are corrected as follows:

Table B2A.—Flight Training Device (FTD) Objective Tests
<<<QPS requirements>>>: Test: Number | <<<QPS requirements>>>: Test: Title | <<<QPS requirements>>>: Tolerances | <<<QPS requirements>>>: Flight conditions | <<<QPS requirements>>>: Test details | <<<QPS requirements>>>: FTD level: 5 | <<<QPS requirements>>>: FTD level: 6 | <<<QPS requirements>>>: <<Information>>: Notes
* * * * * * *
2.a.3.a. | Rudder Pedal Position vs. Force and Surface Position Calibration | ±5 lb (2.2 daN) breakout, ±10% or ±5 lb (2.2 daN) force, ±2° rudder angle | Ground | Record results for an uninterrupted control sweep to the stops |  | X
* * * * * * *
2.c.9.a. | Phugoid Dynamics | ±10% period, ±10% of time to ½ or double amplitude or ±.02 of damping ratio | Cruise | The test must include whichever is less of the following: Three full cycles (six overshoots after the input is completed), or the number of cycles sufficient to determine time to ½ or double amplitude |  | X
* * * * * * *

4. Beginning on page 59842, in Table D1A, entry 2.c. is corrected as follows:

Table D1A.—Minimum FTD Requirements
<<<QPS requirements>>>: Number | <<<QPS requirements>>>: General FTD requirements | <<<QPS requirements>>>: FTD level: 4 | <<<QPS requirements>>>: FTD level: 5 | <<<QPS requirements>>>: FTD level: 6 | <<<QPS requirements>>>: FTD level: 7 | <<Information>> notes
* * * * * * *
2.c. | Relative responses of the flight deck instruments must be measured by latency tests or transport delay tests, and may not exceed 150 milliseconds. The instruments must respond to abrupt input at the pilot's position within the allotted time, but not before the time that the helicopter or set of helicopters would respond under the same conditions. |  | X | X | X | The intent is to verify that the FTD provides instrument cues that are, within the stated time delays, like the helicopter responses. For helicopter response, acceleration in the appropriate, corresponding rotational axis is preferred.
| • Latency: The FTD instrument and, if applicable, the motion system and the visual system response must not be prior to that time when the helicopter responds and may respond up to 150 milliseconds after that time under the same conditions. |  |  |  |
| • Transport Delay: As an alternative to the Latency requirement, a transport delay objective test may be used to demonstrate that the FTD system does not exceed the specified limit. The sponsor must measure all the delay encountered by a step signal migrating from the pilot's control through all the simulation software modules in the correct order, using a handshaking protocol, finally through the normal output interfaces to the instrument display and, if applicable, the motion system, and the visual system.
| An objective test is required.
* * * * * * *

[FR Doc. C7-4884 Filed 3-4-08; 8:45 am]

BILLING CODE 1505-01-D